DEPARTMENT OF THE INTERIOR

Bureau of Land Management

[F-14901-A and F-14901-A2; AK-965-1410-KC-P]

Alaska Native Claims Selection

ACTION: Notice of decision approving lands for conveyance.

SUMMARY: As required by 43 CFR 2650.7(d), notice is hereby given that an appealable decision approving the surface estate in certain lands for conveyance pursuant to the Alaska Native Claims Settlement Act will be issued to Napakiak Corporation. The lands are in the vicinity of Napakiak, Alaska, and are located in:

Seward Meridian, Alaska

T. 7 N., R. 72 W.,

Secs. 1 to 4, inclusive;

Secs. 8, 9, and 10;

Sec. 17.

Containing approximately 3,388 acres.

T. 6 N., R. 73 W.,

Secs. 1 to 4, inclusive;

Secs. 9 to 17, inclusive;

Secs. 19 to 24, inclusive;

Secs. 29 and 30.

Containing approximately 9,916 acres.

T. 5 N., R. 74 W.,

Secs. 5, 7, and 8;

Secs. 17, 18, and 19;

Secs. 22 and 23;

Secs. 26 and 27;

Secs. 33, 34, and 35.

Containing approximately 5,526 acres.

T. 6 N., R. 74 W.,

Secs. 2 to 5, inclusive;

Secs. 8, 17, and 20;

Secs. 29 and 32.

Containing approximately 5,251 acres.

T. 7 N., R. 74 W.,

Sec. 34.

Containing approximately 488 acres.

T. 6 N., R. 76 W.,

Secs. 4 to 9, inclusive;

Secs. 16 and 17;

Secs. 20, 21, and 22;

Secs. 27, 28 and 29.

Containing approximately 6,859 acres.

T. 6 N., R. 77 W.,

Secs. 1 to 9, inclusive;

Secs. 16 and 17;

Secs. 19 to 22, inclusive;

Secs. 27 to 30, inclusive;

Secs. 32 and 33.

Containing approximately 11,068 acres.

Aggregating approximately 42,496 acres.

The subsurface of these lands will be conveyed to Calista Corporation when the surface estate is conveyed to Napakiak Corporation. Notice of the decision will also be published four times in the Tundra Drums.

DATES: The time limits for filing an appeal are:

1. Any party claiming a property interest which is adversely affected by the decision shall have until ______ to file an appeal.

2. Parties receiving service of the decision by certified mail shall have 30 days from the date of receipt to file an appeal.

Parties who do not file an appeal in accordance with the requirements of 43 CFR part 4, subpart E, shall be deemed to have waived their rights.

ADDRESSES: A copy of this decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov.

Gina A. Kendall,
Land Law Examiner, Land Transfer Adjudication II Branch.

[FR Doc. E9-18218 Filed 7-29-09; 8:45 am]

BILLING CODE 4310-JA-P